DEPARTMENT OF THE INTERIOR

National Park Service

Notice of Inventory Completion: U.S. Department of the Interior, National Park Service, Yellowstone National Park, Mammoth Hot Springs, WY

AGENCY: National Park Service, Interior.

ACTION: Notice.

Notice is here given in accordance with the Native American Graves Protection and Repatriation Act (NAGPRA), 25 U.S.C. 3003, of the completion of an inventory of human remains and associated funerary objects in the possession of the U.S. Department of the Interior, National Park Service, Yellowstone National Park, Mammoth Hot Springs, WY. The human remains and cultural items were removed from the Fishing Bridge area of the park.

This notice is published as part of the National Park Service's administrative responsibilities under NAGPRA, 25 U.S.C. 3003 (d)(3). The determinations within this notice are the sole responsibility of the superintendent, Yellowstone National Park.

A detailed assessment of the human remains and funerary objects was made by Yellowstone National Park professional staff in consultation with representatives of the Arapahoe Tribe of the Wind River Reservation, Wyoming; Assiniboine and Sioux Tribes of the Fort Peck Indian Reservation, Montana; Blackfeet Tribe of the Blackfeet Indian Reservation of Montana; Cheyenne River Sioux Tribe of the Cheyenne River Reservation, South Dakota; Coeur D'Alene Tribe of the Coeur D'Alene Reservation, Idaho; Confederated Salish & Kootenai Tribes of the Flathead Reservation, Montana; Crow Tribe of Montana; Flandreau Santee Sioux Tribe of South Dakota; Fort Belknap Indian Community of the Fort Belknap Reservation of Montana; Kiowa Indian Tribe of Oklahoma; Lower Brule Sioux Tribe of the Lower Brule Reservation, South Dakota; Nez Perce Tribe of Idaho; Northern Cheyenne Tribe of the Northern Cheyenne Indian Reservation, Montana; Oglala Sioux Tribe of the Pine Ridge Reservation, South Dakota; Rosebud Sioux Tribe of the Rosebud Indian Reservation, South Dakota; Shoshone-Bannock Tribes of the Fort Hall Reservation of Idaho; Shoshone Tribe of the Wind River Reservation, Wyoming; and the Yankton Sioux Tribe of South Dakota.

In 1941, human remains representing a minimum of one individual were removed from the Fishing Bridge Peninsula in Park County, WY, during a construction project in the tourist cabin development area. The individual was identified as a Native American male most likely 35-45 years old. He was buried in a flexed position with his head pointed about 10 degrees to the south of west. Projectile point typology and geomorphology suggest that the burial dates to the Late Prehistoric period. No known individual was identified. The 105 associated funerary objects are 1 antler fragment, 1 chert drill, 1 chert knife, 2 chert flakes, 2 dog skulls, 1 granite pounding stone, 1 obsidian flake, 1 projectile point, and 95 stones of various sizes. Three small projectile points, 10 worked scrapers and flakes, and 200-300 stone flakes are missing from the originally recovered associated funerary objects and are not included here.

In 1956, human remains representing a minimum of two individuals were removed from the Fishing Bridge Campground in Park County, WY, during a trench-digging project. One individual was identified as a Native American female most likely 40-50 years old. The other partial set of remains represents a Native American infant. It is not known whether the remains were flexed or in which direction the head of the female was oriented. The absence of artifacts precludes relative dating of the burial and radiocarbon dating did not occur. However, geomorphic analysis from a nearby burial site suggests a Late Prehistoric age. No known individuals were identified. The one associated funerary object is the fragmentary skeleton of a dog.

Of those tribes with whom the park consulted, only three stated they buried dogs with humans. Two Shoshonean groups, the Shoshone Tribe of the Wind River Reservation, Wyoming and the Shoshone-Bannock Tribes of the Fort Hall Reservation of Idaho, stated their ancestors customarily included dogs in burials with humans and that children were sometimes buried with women. The Shoshone Tribe of the Wind River Reservation, Wyoming and the Shoshone-Bannock Tribes of the Fort Hall Reservation of Idaho stated that some of their ancestors were on the Yellowstone Plateau as early as what archeologists refer to as the Paleoindian period and continued to inhabit it through historic times as the Lemhi Shoshone and the Sheepeaters. A Crow tribal historian and descendent of the Mountain Crow, a Northwest Plains group, stated that families traveled to and inhabited the Yellowstone Plateau during the summer. He said that before horses, dogs were included in human burials. Archeological evidence places the Crow in Wyoming by 1490. However, the short-stature of both adults is suggestive of Shoshoneans, rather than groups from the Northwest Plains.

While archeologists debate the arrival of the Shoshoneans into the area, some evidence in Idaho and Wyoming suggests Shoshoneans have been in the region for as long as 3,000 years and possibly 8,000 years. Conservative estimates place them in Wyoming around A.D. 1300 to A.D. 1400. When fur trapper Osbourne Russell came to what is now Yellowstone in the 1830s and 1840s he observed pedestrian Sheepeaters who traveled with dogs in contrast with the equestrian Blackfeet he also observed. In 1948, Chief Park Naturalist David Condon stated that “several early writings” identified the Shoshone as frequent visitors to Yellowstone Lake. The oral traditions of the Shoshone, the Salish, and the Nez Perce indicate that they rendezvoused at Fishing Bridge prior to the arrival of Euroamericans. However, there is no archeological evidence of Nez Perce burying dogs with humans. A representative from the Salish-Pend d'Oreille Culture Committee stated that not enough traditional information exists to determine if Salishan speakers buried dogs with humans.

Officials of Yellowstone National Park have determined that, pursuant to 25 U.S.C. 3001 (9-10), the human remains described above represent the physical remains of three individuals of Native American ancestry. Officials of Yellowstone National Park also have determined that, pursuant to 25 U.S.C. 3001 (3)(A), the 106 objects described above are reasonably believed to have been placed with or near the human remains at the time of death or later as part of a death rite or ceremony. Lastly, officials of Yellowstone National Park have determined that, pursuant to 25 U.S.C. 3001 (2), there is a relationship of shared group identity that can reasonably be traced between the Native American human remains and associated funerary objects and the Shoshone Tribe of the Wind River Reservation, Wyoming and the Shoshone-Bannock Tribes of the Fort Hall Reservation of Idaho.

Representatives of any other Indian tribe that believes itself to be culturally affiliated with the human remains and associated funerary objects should contact Suzanne Lewis, superintendent, Yellowstone National Park, P.O. Box 168, Yellowstone National Park, WY 82190, telephone (307) 344-2229, before January 9, 2006. Repatriation of the human remains and associated funerary objects to the Shoshone Tribe of the Wind River Reservation, Wyoming and the Shoshone-Bannock Tribes of the Fort Hall Reservation of Idaho may proceed after that date if no additional claimants come forward.

Yellowstone National Park is responsible for notifying the Arapahoe Tribe of the Wind River Reservation, Wyoming; Assiniboine and Sioux Tribes of the Fort Peck Indian Reservation, Montana; Blackfeet Tribe of the Blackfeet Indian Reservation of Montana; Cheyenne River Sioux Tribe of the Cheyenne River Reservation, South Dakota; Coeur D'Alene Tribe of the Coeur D'Alene Reservation, Idaho; Confederated Salish & Kootenai Tribes of the Flathead Reservation, Montana; Crow Tribe of Montana; Flandreau Santee Sioux Tribe of South Dakota; Fort Belknap Indian Community of the Fort Belknap Reservation of Montana; Kiowa Indian Tribe of Oklahoma; Lower Brule Sioux Tribe of the Lower Brule Reservation, South Dakota; Nez Perce Tribe of Idaho; Northern Cheyenne Tribe of the Northern Cheyenne Indian Reservation, Montana; Oglala Sioux Tribe of the Pine Ridge Reservation, South Dakota; Rosebud Sioux Tribe of the Rosebud Indian Reservation, South Dakota; Shoshone-Bannock Tribes of the Fort Hall Reservation of Idaho; Shoshone Tribe of the Wind River Reservation, Wyoming; and the Yankton Sioux Tribe of South Dakota that this notice has been published.

Dated: October 31, 2005
Sherry Hutt,
Manager, National NAGPRA Program.

[FR Doc. 05-23870 Filed 12-8-05; 8:45 am]

BILLING CODE 4312-50-S